NUCLEAR REGULATORY COMMISSION

[Docket No. 52-037; NRC-2008-0556]

Ameren Missouri, Combined License Application for Callaway Plant Unit 2; Environmental Assessment and Finding of No Significant Impact

The U.S. Nuclear Regulatory Commission (NRC) is considering issuance of an exemption from Title 10 of the Code of Federal Regulations (10 CFR), § 50.71(e)(3)(iii) for the Callaway Plant (Callaway), Unit 2, Combined License (COL) Application, Docket Number 52-037, submitted by Union Electric Company, doing business as Ameren UE (Ameren) for the proposed facility to be located in Callaway County, Missouri. The NRC's review activities relating to the Callaway, Unit 2, COL application remain suspended since June 29, 2009, based on Ameren's request of June 23, 2009. Furthermore, the adjudicatory proceedings related to the Callaway, Unit 2, COL application were terminated by the Atomic Safety and Licensing Board (ASLB) after agreements were made between Ameren, the NRC, and the petitioners for intervention, as documented in “AMERENUE (Callaway Plant Unit 2) MEMORANDUM AND ORDER (Approving Settlement Agreement and Terminating Contested Adjudicatory Proceeding) LBP-09-23 (August 28, 2009)” (ML092400189). In accordance with 10 CFR 51.21, the NRC is issuing this environmental assessment and finding of no significant impact.

Environmental Assessment—Identification of the Proposed Action

The proposed action is a one-time schedule exemption from the requirements of 10 CFR 50.71(e)(3)(iii). During the period from the docketing of a COL application until the NRC makes a finding under 10 CFR 52.103(g) pertaining to facility operation, Union Electric Company, doing business as Ameren Missouri (Ameren) as of October 1, 2010, as noted in its letter to the NRC dated October 26, 2010, must, pursuant to 10 CFR 50.71(e)(3)(iii), submit an annual update to the Final Safety Analysis Report (FSAR). Ameren requested a one-time exemption from the 10 CFR 50.71(e)(3)(iii) requirements to submit the scheduled 2010 and 2011 COL application FSAR updates, and proposed for approval a new submittal deadline of December 31, 2012, for the next FSAR update. The proposed exemption would allow Ameren to submit the next FSAR update at a later date, but still in advance of the NRC reinstating its review of the application, and in any event, by December 31, 2012. The current FSAR update schedule could not be changed, absent the exemption. The NRC is authorized to grant the exemption pursuant to 10 CFR 50.12.

The proposed action is in response to Ameren's request dated October 26, 2010, and can be found in the Agencywide Documents Access and Management System (ADAMS) under accession number ML103090556.

Need for the Proposed Action

The Callaway, Unit 2, COL application is based upon and linked to the U.S. EPR reference COL (RCOL) application for UniStar's Calvert Cliffs Nuclear Power Plant Unit 3 (CCNPP3). The proposed action is needed to allow Ameren to submit the next FSAR update prior to any request to the NRC to resume review of the COL application and, in any event, by December 31, 2012.

Ameren has requested a one-time exemption from the requirements specified in 10 CFR 50.71(e)(3)(iii) in order to reduce the burden associated with identifying and incorporating all committed changes made to the RCOL application since the last revisions to the RCOL application and the U.S. EPR design control documents (DCD), when the updated FSAR will not be reviewed by the NRC until the application review is resumed.

Environmental Impacts of the Proposed Action

The NRC has completed its evaluation of the proposed action and concludes that there are no environmental impacts associated with the proposed exemption. The proposed exemption is solely administrative in nature in that it pertains to the schedule for submittal to the NRC of revisions to a COL application under 10 CFR Part 52.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have any foreseeable impacts to land, air, or water resources, including impacts to biota. In addition, there are also no known socioeconomic or environmental justice impacts associated with the proposed action. Therefore, there are no significant non-radiological environmental impacts associated with the proposed action. Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. Therefore, the environmental impacts of the proposed action and the alternative action are similar.

Alternative Use of Resources

After the environmental scoping meeting was held on February 18, 2009, and prior to issuance of the scoping summary report and the subsequent Draft Environmental Impact Statement, the NRC suspended the Callaway, Unit 2, COL application review activities effective June 29, 2009, based on Ameren's request of June 23, 2009. The proposed action, therefore, does not involve the use of any different resources than those considered during the environmental scoping process.

Agencies and Persons Consulted

Contacting the State of Missouri and, in particular, the Missouri Department of Health and Senior Services, by the NRC staff for comments regarding the environmental impact of the proposed action was not necessary, since the review of the Callaway, Unit 2, COL application is suspended until further notice.

Finding of No Significant Impact

On the basis of the environmental assessment, the NRC concludes that the proposed action will not have a significant effect on the quality of the human environment. Accordingly, the NRC has determined not to prepare an environmental impact statement for the proposed action.

For further details with respect to the proposed action, see Ameren's letter dated October 26, 2010. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or via e-mail at pdr.resource@nrc.gov.

Dated at Rockville, Maryland, this 28th day of December 2010.
For the Nuclear Regulatory Commission.
Prosanta Chowdhury,
Project Manager, EPR Projects Branch, Division of New Reactor Licensing, Office of New Reactors.

[FR Doc. 2011-9 Filed 1-5-11; 8:45 am]

BILLING CODE 7590-01-P